SECURITIES AND EXCHANGE COMMISSION

Sunshine Act; Meetings

Notice is hereby given, pursuant to the provisions of the Government in the Sunshine Act, Public Law 94-409, that the Securities and Exchange Commission will hold the following meetings during the week of April 29, 2002:

An open meeting will be held on Tuesday, April 30, 2002, in Room 6600, at 10 a.m., and a closed meeting will be held on Wednesday, May 1, 2002, at 10 a.m.

Commissioners, Counsel to the Commissioners, the Secretary to the Commission, and recording secretaries will attend the closed meeting. Certain staff members who have an interest in the matters may also be present.

The General Counsel of the Commission, or his designee, has certified that, in his opinion, one or more of the exemptions set forth in 5 U.S.C. 552b(c)(5), (7), (9)(B), and (10) and 17 CFR 200.402(a)(5), (7), (9)(ii) and (10), permit consideration of the scheduled matters at the closed meeting.

The subject matter of the open meeting scheduled for Tuesday, April 30, 2002, will be:

1. The Commission will consider proposing rules that would require companies to discuss “critical accounting estimates” in their “Management's Discussion and Analysis” (MD&A) section of annual reports, registrations statements, proxy and information statements. Quarterly updates to disclose material changes would be required under the proposals. The proposed disclosure is designed to provide additional key information about a company's financial statements to enhance investors' understanding of a company's financial condition and to provide information about the quality of, and potential variability of, a company's earnings. The proposed amendments reflect the changes to MD&A rules that the Commission announced its intention to propose in Press Release 2002-22 on February 13, 2002.

2. The Commission will consider a recommendation to issue an exemptive order under Section 36 of the Exchange Act, which would permit broker-dealers to pledge a wider range of collateral when entering into borrowing transactions governed by paragraph (b)(3) of Rule 15c3-3. The provisions in this paragraph apply when broker-dealers borrow fully paid and excess margin securities from customers. The conditions for such borrowings include the requirement that broker-dealers provide customers with full collateral consisting of certain specified financial instruments or cash. The order would expand the types of collateral that could be provided, subject to certain conditions in addition to those required in the Rule.

The Commission also will consider a recommendation to delegate its authority to issue such orders regarding permissible collateral to the Director of the Division of Market Regulation.

3. The Commission will consider a proposal to amend Rule 31-1 under the Securities Exchange Act of 1934 to clarify how to calculate assessments that are required to be paid by national securities exchanges and national securities associations pursuant to Section 31(d) of the Exchange Act for security futures transactions. The proposed amendments to Rule 31-1 also would provide guidance on how to calculate fees that are required to be paid by national securities exchanges and national securities associations pursuant to Sections 31(b) and (c) of the Exchange Act, respectively, for sales of securities that result from the physical settlement of security futures.

4. The Commission will consider a recommendation to propose amendments to Rules 10f-3, 12d3-1, 17a-6, 17d-1, and 17e-1 and new Rule 17a-10 under the Investment Company Act of 1940. The proposed amendments to Rules 17a-6 and 17d-1 would expand the current exemptions for investment companies to enter into principal transactions and joint arrangements with portfolio companies that are affiliated with an investment company because the investment company controls the portfolio company, or owns more than five percent of the portfolio's voting securities. The proposed amendments to Rules 10f-3, 12d3-1, and 17e-1 and new Rule 17a-10 would permit investment companies and their affiliated subadvisers to enter into a variety of transactions together without first obtaining an exemptive order from the Commission.

The Commission also will consider whether to adopt amendments to Rule 10f-3 under the Investment Company Act of 1940. Rule 10f-3 permits investment companies to purchase certain securities in an underwriting in which an affiliated underwriter is participating. The amendments to Rule 10f-3 would include government securities among the types of securities that investment companies may purchase under the rule.

5. The Commission will consider whether to amend its rules to delegate authority to the Secretary of the Commission to enter orders instituting previously authorized administrative proceedings based on the entry of an injunction or a criminal conviction.

Because the open meeting will be held in Room 6600, there will be limited seating available. Additional seating will be provided in Room 1C50, where there will be a simultaneous telecast of the meeting. The meeting also will be audio webcast live at www.sec.gov/news/openmeetings.shtml.

The subject matter of the closed meeting scheduled for Wednesday, May 1, 2002, will be: institution and settlement of injunctive actions; and institution and settlement of administrative proceedings of an enforcement nature.

At times, changes in Commission priorities require alterations in the scheduling of meeting items. For further information and to ascertain what, if any, matters have been added, deleted or postponed, please contact: The Office of the Secretary at (202) 942-7070.

Dated: April 23, 2002.
Margaret H. McFarland,
Deputy Secretary.

[FR Doc. 02-10385 Filed 4-23-02; 4:10 pm]

BILLING CODE 8010-01-P